DEPARTMENT OF AGRICULTURE

Foreign Agricultural Service

Trade Adjustment Assistance for Farmers

AGENCY: Foreign Agricultural Service, USDA.

ACTION: Notice.

The Administrator, Foreign Agricultural Service (FAS), denied a petition for trade adjustment assistance (TAA) for avocados that was filed on March 8, 2005, by a group of Florida avocado producers.

SUPPLEMENTARY INFORMATION: Upon investigation, the Administrator determined that the price series in the petition was based on a January-December marketing year. The recognized avocado marketing year by the National Agricultural Statistics Service begins June 1 and ends February 28. In addition, the price series in the petition could not be evaluated since it did not reflect the entire 2004 season and was not valid for the entire state of Florida. Based on these two factors, the petition was not certified.

FOR FURTHER INFORMATION CONTACT: Jean-Louis Pajot, Coordinator, Trade Adjustment Assistance for Farmers, FAS, USDA, (202) 720-2916, e-mail: trade.adjustment@fas.usda.gov.

Dated: April 5, 2005.
Kenneth J. Roberts,
Acting Administrator, Foreign Agricultural Service.

[FR Doc. 05-7647 Filed 4-15-05; 8:45 am]

BILLING CODE 3410-10-P